SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: November 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, subpart E for the time period specified above: Grandfathering Registration Under 18 CFR part 806, subpart E:

1. Roaring Spring Municipal Authority—Public Water Supply System, GF Certificate No. GF-202111192, Roaring Spring Borough, Blair County, Pa.; Roaring Spring; Issue Date: November 23, 2021.

2. Scotch Valley Country Club, Inc.—Scotch Valley Country Club, GF Certificate No. GF-202111193, Frankstown Township, Blair County, Pa.; consumptive use; Issue Date: November 23, 2021.

3. Pennsy Supply, Inc.—Mt. Holly Springs Quarry, GF Certificate No. GF-202111194, Dickinson Township, Cumberland County, Pa.; Well 1 (West Well) and Well 2 (East Well); Issue Date: November 30, 2021.

4. City of Binghamton—Public Water Supply System, GF Certificate No. GF-202111195, City of Binghamton, Broome County, N.Y.; Susquehanna River and Olmstead Well; Issue Date: November 30, 2021.

Dated: December 22, 2021.
Jason E. Oyler,
General Counsel and Secretary to the Commission.

[FR Doc. 2021-28226 Filed 12-28-21; 8:45 am]

BILLING CODE 7040-01-P